NATIONAL CREDIT UNION ADMINISTRATION

Agency Information Collection Activities: Submission to OMB for Revision to a Currently Approved Information Collections; Comment Request

AGENCY: National Credit Union Administration (NCUA).

ACTION: Request for comment.

SUMMARY: The NCUA intends to submit the following information collection to the Office of Management and Budget (OMB) for review and clearance under the Paperwork Reduction Act of 1995 (Pub. L. 104-13, 44 U.S.C. Chapter 35). This information collection is published to obtain comments from the public.

DATES: Comments will be accepted until November 13, 2006.

ADDRESSES: Interested parties are invited to submit written comments to NCUA Clearance Officer listed below:

Clearance Officer: Mr. Neil McNamara, National Credit Union Administration, 1775 Duke Street, Alexandria, Virginia 22314-3428. Fax No. 703-837-2861. E-mail: mcnamara@ncua.gov.

FOR FURTHER INFORMATION CONTACT: Requests for additional information or a copy of the information collection request, should be directed to Tracy Sumpter at the National Credit Union Administration, 1775 Duke Street, Alexandria, VA 22314-3428, or at (703) 518-6444.

SUPPLEMENTARY INFORMATION: Proposal for the following collection of information:

OMB Number: 3133-0108.

Form Number: N/A

Type of Review: Extension of a currently approved collection.

Title: Monitoring Bank Secrecy Act Compliance.

Description: The collection is needed to allow NCUA to determine whether credit unions have established a program reasonably designed to assure and monitor their compliance with currency recordkeeping and reporting requirements established by Federal statute and Department of Treasury Regulations.

Respondents: Federally Insured Credit Unions.

Estimated No. of Respondents/Recordkeepers: 8,695.

Estimated Burden Hours Per Response: 3 hours.

Frequency of Response: Recordkeeping and annually.

Estimated Total Annual Burden Hours: 26,218.

Estimated Total Annual Cost: 0.

By the National Credit Union Administration Board on September 5, 2006.
Mary Rupp,
Secretary of the Board.

[FR Doc. E6-15028 Filed 9-11-06; 8:45 am]

BILLING CODE 7535-01-P